DEPARTMENT OF COMMERCE

National Oceanic and Atmospheric Administration

RIN 0648-XG274

North Pacific Fishery Management Council; Public Meeting

AGENCY: National Marine Fisheries Service (NMFS), National Oceanic and Atmospheric Administration (NOAA), Commerce.

ACTION: Notice of public meeting.

SUMMARY: NMFS has requested the Center for Independent Experts (CIE) to conduct a peer review of the agency's stock assessments for the Aleutian Islands golden king crab (AIGKC) and Norton Sound red king crab (NSRKC) stocks. The CIE is a group affiliated with the University of Miami that provides independent peer reviews of NMFS science nationwide, including reviews of stock assessments for fish, shellfish and marine mammals. The AIGKC and NSRKC stock assessments are reviewed annually by the Alaska Fisheries Science Center, the North Pacific Fishery Management Council (NPFMC) Crab Plan Team, and the NPFMC Scientific and Statistical Committee. The CIE review will examine whether the assessments incorporate the best scientific information available for making management decisions and whether they provide reasonable approaches to understanding the population dynamics and stock status for the AIGKC and NSRKC stocks. The public is invited to attend and observe the presentations and discussions between the CIE panel and the NMFS and Alaska Department of Fish & Game (ADFG) scientists who designed the underlying assessment models, collected the data, and performed the stock assessments.

DATES: The meeting will be held on Monday, June 18, 2018, through Thursday, June 21, 2018 from 8 a.m. to 3:30 p.m. Pacific Daylight Time.

ADDRESSES: The meeting will be held at the Alaska Fisheries Science Center, 7600 Sand Point Way NE, Seattle, WA 98115-6349. Visitors will need to provide proper ID and sign in at the front desk.

Council address: North Pacific Fishery Management Council, 605 W. 4th Ave., Suite 306, Anchorage, AK 99501-2252; telephone (907) 271-2809.

FOR FURTHER INFORMATION CONTACT: William Stockhausen, AFSC staff; telephone: (206) 526-4241.

SUPPLEMENTARY INFORMATION: The CIE panel will consist of three peer reviewers who will assess materials related to the topics, participate in a review workshop with the NMFS and ADFG scientists who developed the assessment models and the analytical approaches, and produce a report. This review will be highly technical in nature and will cover mathematical details of the analytical approaches.

Members of the public are invited to observe, and will be provided opportunities to contribute on June 18-20, 2018. The final report will be available prior to the September NPFMC Plan Team meetings and will consist of individual reports from each panelist and a summary report. The results of the review will be presented during the September 2018 NPFMC Crab Plan Team meeting, which will be announced later in the Federal Register.

Special Accommodations

These workshops will be physically accessible to people with disabilities. Requests for sign language interpretation or other auxiliary aids should be directed to Laura Oremland, (301) 427-8162, at least 10 working days prior to the meeting date.

Dated: May 30, 2018.
Tracey L. Thompson,
Acting Deputy Director, Office of Sustainable Fisheries, National Marine Fisheries Service.

[FR Doc. 2018-11893 Filed 6-1-18; 8:45 am]

BILLING CODE 3510-22-P